DEPARTMENT OF ENERGY

Bonneville Power Administration

Big Eddy-Knight Transmission Project

AGENCY: Bonneville Power Administration (BPA), Department of Energy (DOE).

ACTION: Notice of Availability of Record of Decision (ROD).

SUMMARY: This notice announces the availability of the ROD to implement the Big Eddy-Knight Transmission Project in Wasco County, Oregon and Klickitat County, Washington. Construction of the Big Eddy-Knight Transmission Project will accommodate long-term firm transmission requests that BPA has received by increasing BPA's 500-kV transmission capability to move power from the east side of the Cascade Mountains (along the Oregon/Washington border) to load centers (such as Portland, Oregon) on the west side of the Cascades and to major transmission lines serving California.

As described in the Big Eddy-Knight Transmission Project Final Environmental Impact Statement (EIS) (DOE/EIS-0421, July 2011), this project consists primarily of constructing a new, approximately 28-mile-long, 500-kilovolt (kV) transmission line and ancillary facilities between BPA's existing Big Eddy Substation in The Dalles, Oregon, to a proposed new Knight Substation that would be connected to an existing BPA line about 4 miles northwest of Goldendale, Washington. For the transmission line, BPA has decided to build East Alternative Option 3. For the first 14 miles, the line will use double-circuit towers (combining the new line and an existing line on one set of towers) mostly on existing right-of-way. The remaining 14 miles of the new line will be built with single-circuit towers in a newly-established 150-foot wide transmission line right-of-way. BPA has also decided to build the small (about 1 mile) realignment of the East Alternative on the Oregon side of the Columbia River, as described in the final EIS. For the proposed new Knight Substation, BPA has decided to build Knight Substation on Site 1, which is on private property about 0.5 mile west of Knight Road. For the fiber optic cable necessary for system communications, BPA has decided to build the Loop Back Option, which will string fiber optic cable on the new transmission towers from BPA's Big Eddy Substation to the new Knight Substation and back again. The project also includes new equipment at BPA's existing Big Eddy and Wautoma substations. BPA will install about 134 new lattice-steel transmission towers that will have an average span length between towers of about 1,200 feet. The double-circuit towers that will be used for the first 14 miles will range in height from about 170-250 feet tall; the single-circuit towers that will be used for the last 14 miles will be about 108-200 feet tall. The towers on either side of the Columbia River will be about 407 feet tall on the Oregon side and 232 feet tall on the Washington side.

The conductor, fiber optic cable, and overhead ground wire for the new transmission line will be placed on these towers, and counterpoise (which takes any lightning charge from the overhead ground wire and dissipates it into the earth) will be buried in the ground at select towers. Marker balls will be placed on the overhead ground wire across the Columbia River and bird diverters will be installed on overhead ground wire at select locations. The towers on either side of the Columbia River will have lighting for aircraft safety. Road construction will include about 16 miles of new road, 9 miles of temporary road, 13 miles of existing road improvements, and 62 culverts in intermittent streams (many stream crossings will have more than 1 culvert). In addition, portions of county roads that will be used to access the line route will be improved as necessary.

All mitigation measures identified in the EIS that are applicable to the selected alternative are adopted.

ADDRESSES: Copies of the ROD and EIS may be obtained by calling BPA's toll-free document request line, 1-800-622-4520. The ROD and EIS are also available on our Web site, http://www.bpa.gov/go/BEK.

FOR FURTHER INFORMATION CONTACT: Stacy Mason, Bonneville Power Administration—KEC-4, P.O. Box 3621, Portland, Oregon 97208-3621; toll-free telephone number 1-800-622-4519; fax number 503-230-5455; or e-mail slmason@bpa.gov.

Issued in Portland, Oregon, on September 16, 2011.
Stephen J. Wright,
Administrator and Chief Executive Officer.

[FR Doc. 2011-24610 Filed 9-23-11; 8:45 am]

BILLING CODE 6450-01-P